DEPARTMENT OF THE INTERIOR

Bureau of Land Management

[NV-920-00-1990-HP]

Abandoned Mined Lands Physical Safety Hazard Abatement; Nevada

AGENCY: Bureau of Land Management, Interior.

ACTION: Notice.

SUMMARY: The Nevada State Office of the Bureau of Land Management gives notice of its intent to initiate a scoping period and conduct public meetings to identify issues and formulate alternatives for a programmatic Environmental Assessment (EA) for the abatement of safety hazards associated with Abandoned Mined Lands (AMLs) on Nevada public lands managed by the Bureau of Land Management.

DATES: Public comments on the preliminary issues and planning criteria will be accepted until August 11, 2000.

In addition, two informal public meetings are scheduled for Thursday, July 27, 2000, at the BLM Las Vegas Field Office, 4765 West Vegas Drive, Las Vegas, Nevada, and Tuesday, August 1, 2000, at the BLM Nevada State Office, 1340 Financial Boulevard, Reno, Nevada. Both meetings will begin at 7 p.m. each evening.

ADDRESSES: Written comments should be addressed to Christopher Ross, BLM Nevada State Office, PO Box 12000, Reno, Nevada 89520-0006.

FOR FURTHER INFORMATION CONTACT: Christopher Ross, BLM Nevada State Office, PO Box 12000, Reno, Nevada 89520-0006.

SUPPLEMENTARY INFORMATION: The proposed EA will result in the development of alternatives for the selection and remediation of AML features on Nevada public lands which represent physical safety hazards to humans. The anticipated issues for this proposed EA include:

(1) Determination of criteria for the prioritization of selection of sites for hazard abatement.

(2) Determination of what stipulations or conditions are necessary for remediation activities to protect, maintain, and enhance other resources, including protection of critical wildlife habitat; protection of threatened and endangered plant and animal species; recreational, cultural, and archeological resources.

(3) Identification of alternatives for securing hazardous sites.

(4) Determination of what impacts to the minerals industry may result from the securing of hazardous AML sites. Preliminary planning criteria for the AML Environmental Assessment call for the following:

(A) Sites which include chemical or water quality issues will not be considered in this EA.

(B) Existing studies, the most current available inventories, and ongoing investigation will be used to determine potential sites for remediation consideration.

(C) Reasonable scenarios based on available data and technology will be developed for remediation alternatives.

(D) An interdisciplinary approach will be used to develop reasonable alternatives; analyze impacts, including cumulative impacts to natural and cultural resources and the physical, social, and economic environment; identify alternatives; and make determinations.

(E) Impacts of use on adjacent or nearby non-Federal lands and non-public land surface over Federally owned minerals will be considered.

(F) Impacts from energy and mineral development on public lands will be considered. Alternatives proposed for consideration at a minimum include:

(1) No action—defined as continuation of current management.

(2) Preferred Alternative—to be defined by BLM management following consultation with staff and input from the public. An interdisciplinary team representing the following disciplines will be assigned to this planning effort: Minerals, wildlife, lands, recreation, wilderness, cultural resources, and hydrology. All documentation will be reviewed by the interdisciplinary team.

Public participation is an integral part of the planning process. It begins with this scoping period and public meetings and will continue through the development of the EA. The next major opportunity for public review and comment will be offered with the publication of the preliminary EA; however, the public is invited to comment or to become involved at any time during the planning process.

Dated: July 6, 2000.
Robert V. Abbey,
State Director, Nevada.

[FR Doc. 00-17574 Filed 7-11-00; 8:45 am]

BILLING CODE 4310-HC-P